DEPARTMENT OF AGRICULTURE

Animal and Plant Health Inspection Service

[Docket No. 03-012-1]

Animal Welfare; Animal Fighting Venture Prohibition

AGENCY: Animal and Plant Health Inspection Service, USDA.

ACTION: Notice.

SUMMARY: The Farm Security and Rural Investment Act of 2002 amended section 26 of the Animal Welfare Act (AWA) by adding specific provisions regarding the sale, purchase, transportation, delivery, or receipt of live birds in commerce for participation in animal fighting ventures in States where the practice is permitted by law. The Animal and Plant Health Inspection Service is publishing this notice in order to increase the public visibility of these additional AWA provisions regarding animal fighting venture prohibitions.

FOR FURTHER INFORMATION CONTACT: Dr. Jerry DePoyster, Senior Veterinary Medical Officer, Animal Care, APHIS, 4700 River Road Unit 84, Riverdale, MD 20737-1234; (301) 734-7586.

SUPPLEMENTARY INFORMATION:

Background

The Animal Welfare Act (7 U.S.C. 2131 et seq., referred to below as the AWA) authorizes the Secretary of Agriculture to promulgate standards and other requirements governing the humane handling, care, treatment, and transportation of certain animals by dealers, research facilities, exhibitors, carriers and intermediate handlers. The Secretary has delegated responsibility for administering the AWA to the Administrator of the Animal and Plant Health Inspection Service (APHIS). Within APHIS, the responsibility for administration of the AWA has been delegated to Animal Care. Regulations established under the AWA are contained in 9 CFR chapter 1, subchapter A, parts 1, 2, 3, and 4. Part 1 contains definitions for terms used in parts 2, 3, and 4; part 2 contains general requirements for regulated parties; part 3 contains specific requirements for the care and handling of certain animals; and part 4 contains rules of practice for the enforcement of the AWA.

Section 26 of the AWA (7 U.S.C. 2156) concerns animal fighting ventures. Paragraph (a) of that section has provided that “[i]t shall be unlawful for any person to knowingly sponsor or exhibit an animal in any animal fighting venture to which any animal was moved in interstate or foreign commerce.” However, the Farm and Security Rural Investment Act of 2002 (Pub. L. 107-171, signed into law on May 13, 2002), revised paragraph (a) to read:

(a) SPONSORING OR EXHIBITING AN ANIMAL IN AN ANIMAL FIGHTING VENTURE.—

(1) IN GENERAL.—Except as provided in paragraph (2), it shall be unlawful for any person to knowingly sponsor or exhibit an animal in an animal fighting venture, if any animal in the venture was moved in interstate or foreign commerce.

(2) SPECIAL RULE FOR CERTAIN STATES.—With respect to fighting ventures involving live birds in a State where it would not be in violation of the law, it shall be unlawful under this subsection for a person to sponsor or exhibit a bird in the fighting venture only if the person knew that any bird in the fighting venture was knowingly bought, sold, delivered, transported, or received in interstate or foreign commerce for the purpose of participation in the fighting venture.

To increase the public visibility of these new AWA provisions, which are to become effective on May 13, 2003, APHIS is publishing this notice pursuant to its authority under the AWA.

Done in Washington, DC, this 6th day of May, 2003.
Peter Fernandez,
Acting Administrator, Animal and Plant Health Inspection Service.

[FR Doc. 03-11708 Filed 5-9-03; 8:45 am]

BILLING CODE 3410-34-P